DEPARTMENT OF COMMERCE

International Trade Administration

FEDERAL TRADE COMMISSION

Public Workshop: Alternative Dispute Resolution for Consumer Transactions in the Borderless Online Marketplace

AGENCY: International Trade Administration, Department of Commerce; Federal Trade Commission.

ACTION: Notice Announcing Reopening of Public Comment Period.

SUMMARY: The United States Department of Commerce (the “Department”) and the Federal Trade Commission (the “FTC”) have extended the deadline to June 29, 2000, for submitting comments in the public workshop on alternative dispute resolution (“ADR”) for online consumer transactions (announced in 65 FR 7831 (Feb. 16, 2000)).

DATES: Public comments will be accepted until June 29, 2000.

ADDRESSES: Mail written comments to Secretary, Federal Trade Commission, Room H-159, 600 Pennsylvania Avenue, NW, Washington, DC 20580.

Submission of Documents: Comments should be captioned “Alternative Dispute Resolution for Consumer Transactions in the Borderless Online Marketplace.” To enable prompt review and public access, paper submissions should include three hard copies and a version on diskette in ASCII, WordPerfect (please specify version), or Microsoft Word (please specify version) format. Diskettes should be labeled with the name of the party and the name and version of the word processing program used to create the document. As an alterntive to paper submissions, email comments to: adr@ftc.gov. Messages to that address will receive a reply in acknowledgment. Comments submitted in electronic form should be in ASCII, WordPerfect (plese specify verion), or Microsoft Word (please specify version) format. Written comments will be available for public inspection in accordance with the Freedom of Information Act, 5 U.S.C. 552 and Commission regulations, 16 CFR Part 4.9 on normal business days between the hours of 8:30 a.m. and 5 p.m. at 600 Pennsylvania Avenue, NW, Washington, DC 20580. The Department and the FTC will make this notice, and, to the extent possible, all papers or comments received in response to this notice available to the public through the Internet at: http://www.ecommerce.gov/adr.

FOR FURTHER INFORMATION CONTACT: For questions about the workshop, please contact either Kate Rodriguez, International Trade Administration, phone (202) 482-2145; email: kate_rodriguez@ita.doc.gov or Maneesha Mithal, Federal Trade Commission, phone: (202) 326-2771; email: mmithal@ftc.gov. All materials relating to the workshop can also be found at http://www.ecommerce.gov/adr.

By direction of the Commission.
Donald S. Clark,
Secretary.
Barbara S. Wellbery,
Counsellor to the Under Secretary for Electronic Commerce, International Trade Administration, Department of Commerce.

[FR Doc. 00-14763 Filed 6-9-00; 8:45 am]

BILLING CODE 3510-25-M